NATIONAL SCIENCE FOUNDATION

Sunshine Act Meetings

TIME AND DATE: Tuesday, October 19, 2021, from 1:20-2:05 p.m. EDT.

PLACE: This meeting will be held by teleconference through the National Science Foundation, 2415 Eisenhower Avenue, Alexandria, VA 22314.

STATUS: Closed.

MATTERS TO BE CONSIDERED: The agenda is: Remarks by the NSB Chair and the Chair of the Subcommittee on TIP; a presentation on TIP; discussions and feedback on the plans.

CONTACT PERSON FOR MORE INFORMATION: Point of contact for this meeting is: Chris Blair, cblair@nsf.gov, 703/292-7000. Meeting information and updates may be found at http://www.nsf.gov/nsb/meetings/notices.jsp#sunshine. Please refer to the National Science Board website www.nsf.gov/nsb for general information.

Chris Blair,
Executive Assistant to the National Science Board Office.

[FR Doc. 2021-22713 Filed 10-14-21; 11:15 am]

BILLING CODE 7555-01-P